DEPARTMENT OF COMMERCE

National Oceanic and Atmospheric Administration

50 CFR Part 648

[Docket No. 991228354-0078-02; I.D. 100300A]

RIN 0648-AM49

Fisheries of the Northeastern United States; Atlantic Mackerel, Squid, and Butterfish Fisheries; 2000 Specifications Adjustment

AGENCY: National Marine Fisheries Service (NMFS), National Oceanic and Atmospheric Administration (NOAA), Commerce.

ACTION: Inseason adjustment of Loligo squid annual specifications; announcement of a limited directed fishery and subsequent closure.

SUMMARY: NMFS announces that the Regional Administrator, Northeast Region, NMFS (Regional Administrator), is increasing the annual specifications for Loligo squid, including allowable biological catch (ABC), initial optimum yield (IOY), domestic annual harvest (DAH) and domestic annual processing (DAP), from 13,000 metric tons (mt) to 15,000 mt. The regulations governing the Atlantic mackerel, squid and butterfish fisheries require notice to provide interested parties the opportunity to comment on the adjustments. NMFS also announces that the Period III directed Loligo squid commercial fishery in the exclusive economic zone (EEZ) is reopened until 0001 hours October 26, 2000, as a result of this adjustment.

DATES: The Period III directed Loligo squid commercial fishery in the EEZ is reopened effective October 7, 2000, through October 25, 2000. Effective 0001 hours, October 26, 2000, the directed fishery for Loligo squid will close through December 31, 2000. Comments on the Loligo squid inseason adjustment notice must be received by November 9, 2000.

ADDRESSES: Comments should be sent to Patricia A. Kurkul, Regional Administrator, NMFS, Northeast Regional Office, 1 Blackburn Drive, Gloucester, MA 01930. Mark on the outside of the envelope “Comments on Adjustment of Loligo Squid Annual Specifications.”

FOR FURTHER INFORMATION CONTACT: Paul H. Jones, Fishery Policy Analyst, 978-281-9273, fax 978-281-9135, e-mail paul.h.jones@noaa.gov.

SUPPLEMENTARY INFORMATION: On March 28, 2000, NMFS published final 2000 initial specifications for the Atlantic mackerel, squid, and butterfish fisheries at 65 FR 16341. The Loligo squid specifications were established as follows: 26,000 mt maximum optimum yield (Max OY); 13,000 mt ABC, IOY, DAH and DAP; 0 mt joint venture processing (JVP); and 0 mt total allowable level of foreign fishing (TALFF). The final rule also specified that the Loligo squid IOY of 13,000 mt be subdivided into three, 4-month quota periods (Period I (Jan-Apr)—5,460 mt, Period II (May-Aug)—2,340 mt, and Period III (Sep-Dec)—5,200 mt). This quota is made available to the directed fishery until 95 percent of the annual allocation is landed. When landings reach that level, the directed fishery is closed and incidental landings only are allowed, with a limit of 2,500 lb (1.13 mt) per trip.

The most recent assessment of the Loligo stock (29th Northeast Regional Stock Assessment Workshop, August 1999 (SAW-29)) concluded that the stock was approaching an overfished condition and overfishing was occurring. The control rule adopted in Amendment 8 to the FMP assumes a linear relationship between biomass levels and fishing mortality rate (F), and implies that, at the current biomass levels, F should be reduced to near zero. However, SAW-29 projections indicated that the control rule is overly conservative, and that, given the nature of the stock, the biomass can rebuild in a relatively short time, even at fishing mortality rates approaching FMSY. Consistent with this advice, the initial specifications for 2000 were set at 90 percent of FMSY, or 13,000 mt.

The most recent data from the NMFS research survey for Loligo squid indicate that abundance of this species has increased significantly since the most recent assessment was conducted (SAW-29). Estimates of biomass based on NMFS’ Northeast Fisheries Science Center autumn 1999 and spring 2000 survey indices for Loligo squid indicate that the stock is currently at, or near, the biomass level that produces maximum sustainable yield (Bmsy).

Section 648.21(e) allows the Regional Administrator, in consultation with the Council, to recommend inseason adjustments to the annual specifications during the fishing year by publishing notification in the Federal Register and providing a 30-day public comment period. Accordingly, based on the new survey data, the Council requested that NMFS process an inseason action to adjust the annual specifications for Loligo squid, including ABC, IOY, DAH and DAP, from 13,000 mt to 15,000 mt. Given the short-lived nature of this species (1 year) and the most recent survey information, the 2,000-mt increase is justified. Quota Periods I and II are closed to directed fishing when 90 percent of each allocation is harvested, directed fishing for the remainder of the year is ended when 95 percent of the annual DAH is reached. Due to overages in Period I and II in 2000, only approximately 720 mt will be available for harvest by the directed fishery for the remainder of this fishing year, even with the 2,000-mt adjustment. However, the additional allocation will provide the industry with an additional fishing opportunity in Period III and keep vessels from fishing for other, less robust species. Max OY remains at 26,000 mt, and JVP and TALFF remain at 0 mt.

2000 Final Specifications

The following table contains the final adjusted specifications for the 2000 Atlantic mackerel, Loligo and Illex squids, and butterfish fisheries.

Table 1. Final Annual Specifications for Atlantic Mackerel, Squid, and Butterfish for the Fishing Year January 1 through December 31, 2000.
Metric Tons (mt)
Specifications | Squid: Loligo | Squid: Illex | Atlantic Mackerel | Butterfish
MAX OY | 26,000 | 24,000 | N/A¹ | 16,000
ABC | 15,000 | 24,000 | 347,000 | 7,200
IOY | 15,000 | 24,000 | 75,000² | 5,900
DAH | 15,00 | 24,000 | 75,000³ | 5,900
DAP | 15,00 | 24,000 | 50,000 | 5,900
JVP | 0 | 0 | 10,000⁴ | 0
TALFF | 0 | 0 | 0 | 0
¹Not applicable.
²OY may be increased during the year, but the total ABC will not exceed 347,000 mt.
³Includes 15,000 mt of Atlantic mackerel recreational allocation.
⁴JVP may be increased up to 15,000 mt at discretion of the Regional Administrator.

Reopening of the Period III Loligo Squid Commercial Fishery

Section 648.22 requires the closure of the directed Loligo squid fishery in the EEZ when 95 percent of the total annual DAH Loligo squid has been harvested. NMFS is further required to notify, in advance of the closure, the Executive Directors of the Mid-Atlantic, New England, and South Atlantic Fishery Management Councils; mail notification of the closure to all holders of Loligo squid permits at least 72 hours before the effective date of the closure; provide adequate notice of the closure to recreational participants in the fishery; and publish notification of the closure in the Federal Register.

NMFS issued a notification in the Federal Register on September 6, 2000 (65 FR 53940), announcing that the directed fishery for Loligo squid in the EEZ would close on September 7, 2000. This inseason adjustment will reopen the fishery effective 0001 hours, October 7, 2000. Based on the rate of fishing in the Loligo fishery in prior years, NMFS has determined that 95 percent of the total annual DAH for Loligo squid will be harvested by October 25, 2000. Therefore, vessels issued a commercial Federal fisheries permit for the Loligo squid fishery may land Loligo squid effective 0001 hours, October 7, 2000, through October 25, 2000. Effective 0001 hours, October 26, 2000, the directed fishery for Loligo squid will close and vessels issued Federal permits for Loligo squid may not retain or land more than 2,500 lb (1.13 mt) of Loligo per trip. The directed fishery will reopen effective 0001 hours, January 1, 2001, which is the beginning of the Period I quota for the 2001 fishing year.

Classification

This action is required by 50 CFR part 648 and is exempt from review under E.O. 12866.

Authority: 16 U.S.C. 1801 et seq.

Dated: October 3, 2000.
Richard W. Surdi,
Acting Director, Office of Sustainable Fisheries, National Marine Fisheries Service.

[FR Doc. 00-25939 Filed 10-4-00; 4:45 pm]

BILLING CODE: 3510-22 -S